DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of a currently approved collection “National Longitudinal Survey of Youth 1979.” A copy of the proposed information collection request (ICR) can be obtained by contacting the individual listed in the ADDRESSES section of this notice.

DATES: Written comments must be submitted to the office listed in the ADDRESSES section below on or before February 25, 2020.

ADDRESSES: Send comments to Carol Rowan, BLS Clearance Officer, Division of Management Systems, Bureau of Labor Statistics, Room 4080, 2 Massachusetts Avenue NE, Washington, DC 20212. Written comments also may be transmitted by fax to 202-691-5111 (this is not a toll free number).

FOR FURTHER INFORMATION CONTACT: Carol Rowan, BLS Clearance Officer, 202-691-7628 (this is not a toll free number). (See ADDRESSES section.)

SUPPLEMENTARY INFORMATION:

I. Background

The National Longitudinal Survey of Youth 1979 (NLSY79) is a representative national sample of persons who were born in the years 1957 to 1964 and lived in the U.S. in 1978. These respondents were ages 14 to 22 when the first round of interviews began in 1979; they will be ages 55 to 62 as of December 31, 2019. The NLSY79 was conducted annually from 1979 to 1994 and has been conducted biennially since 1994. The longitudinal focus of this survey requires information to be collected from the same individuals over many years in order to trace their education, training, work experience, fertility, income, and program participation.

In addition to the main NLSY79, the biological children of female NLSY79 respondents have been surveyed since 1986. A battery of child cognitive, socio-emotional, and physiological assessments was administered biennially from 1986 until 2012 to NLSY79 mothers and their children. Starting in 1994, children who had reached age 15 by December 31 of the survey year (the Young Adults) were interviewed about their work experiences, training, schooling, health, fertility, self-esteem, and other topics. Funding for the NLSY79 Child and Young Adult surveys is provided by the Eunice Kennedy Shriver National Institute of Child Health and Human Development through an interagency agreement with the BLS and through a grant awarded to researchers at the Ohio State University Center for Human Resource Research (CHRR). The interagency agreement funds data collection for children and young adults up to age 24. The grant funds data collection for young adults age 25 and older.

One of the goals of the Department of Labor (DOL) is to produce and disseminate timely, accurate, and relevant information about the U.S. labor force. The BLS contributes to this goal by gathering information about the labor force and labor market and disseminating it to policymakers and the public so that participants in those markets can make more informed, and thus more efficient, choices. Research based on the NLSY79 contributes to the formation of national policy in the areas of education, training, employment programs, school-to-work transitions, and preparations for retirement. In addition to the reports that the BLS produces based on data from the NLSY79, members of the academic community publish articles and reports based on NLSY79 data for the DOL and other funding agencies. To date, more than 2,700 articles examining NLSY79 data have been published in scholarly journals. The survey design provides data gathered from the same respondents over time to form the only data set that contains this type of information for this important population group. Without the collection of these data, an accurate longitudinal data set could not be provided to researchers and policymakers, thus adversely affecting the DOL's ability to perform its policy- and report-making activities.

II. Current Action

The BLS seeks approval to conduct Round 29 of the NLSY79 and the associated surveys of biological children of female NLSY79 respondents.

The Young Adult Survey will be administered to young adults age 12 and older who are the biological children of female NLSY79 respondents. These young adults will be contacted regardless of whether they reside with their mothers. Members of the Young Adult grant sample are contacted for interviews every other round once they reach age 31. The NLSY79 Young Adult Survey involves interviews with approximately 6,326 young adults ages 12 and older. Of those, 4,555 will be contacted for interview in Round 29.

During the field period, about 100 main NLSY79 interviews will be validated to ascertain whether the interview took place as the interviewer reported and whether the interview was done in a polite and professional manner.

BLS has undertaken a continuing redesign effort to examine the current content of the NLSY79 and provide direction for changes that may be appropriate as the respondents age. The 2020 instrument reflects a number of changes recommended by experts in various fields of social science and by our own internal review of the survey's content. Additions to the questionnaire are accompanied by deletions of previous questions so that the overall time required to complete the survey should be lower than in 2018 and comparable to 2016.

The Round 29 questionnaire includes new questions on cognition and add questions on wealth. Questions that assess the cognitive functioning of the respondents will be added to Round 29 for all respondents. The first type ask the respondent to self-rate memory and change in memory. The next type of questions collect assessments of memory. These include word recall (both immediate and delayed), backward counting, and serial subtraction from 100 by 7s. These items were collected previously from NLSY79 respondents around age 48. Some new items will be included in this cognition battery that ask the date, the name of the president, and the name of common items from their definition. In addition, the assets module that has been asked in odd-numbered rounds since Round 19 will rotate back into the questionnaire.

Most of the changes made to the Young Adult questionnaire for 2020 have been made to streamline questions and sections in order to cut down on the amount of time it takes for a respondent to complete an interview. The Young Adult sample expects to include 459 respondents ages 12-22 and 4,096 respondents age 23 and older in Round 29.

The questions added to the Young Adult questionnaire expand our understanding of both physical and mental/emotional health and well-being such as gender identity and sexual orientation, resiliency, loneliness and social isolation, self-worth, and social cognition.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: National Longitudinal Survey of Youth 1979.

OMB Number: 1220-0109.

Type of Review: Revision, with change, of a previously approved collection.

Affected Public: Individuals or households.

Form | Total respondents | Frequency | Total responses | Average time per response (minutes) | Estimated total burden (hours)
NLSY79 Round 29 Main Survey | 6,750 | Biennially | 6,750 | 70 | 7,875
Round 29 Validation Interviews | 100 | Biennially | 100 | 6 | 10
Young Adult Survey (Ages 12 to 13) | 6 | Biennially | 6 | 50 | 5
Young Adult Survey (Ages 14 to 18, no children) | 95 | Biennially | 95 | 66 | 105
Young Adult Survey (Ages 14 to 18, has children) | 4 | Biennially | 4 | 86 | 6
Young Adult Survey (Ages 19 to 22, no children) | 329 | Biennially | 329 | 63 | 345
Young Adult Survey (Ages 19 to 22, has children) | 25 | Biennially | 25 | 83 | 35
Young Adult Survey, Grant component (Age 23 to 28, no children), interview | 964 | Biennially | 964 | 60 | 964
Young Adult Survey, Grant component (Age 23 to 28, has children), interview | 338 | Biennially | 338 | 80 | 451
Young Adult Survey, Grant component (Age 29 and older, no children), interview | 1,258 | Biennially | 1,258 | 70 | 1,468
Young Adult Survey, Grant component (Age 29 and older, has children), interview | 1,536 | Biennially | 1,536 | 90 | 2,304
Totals ¹ | 11,305 |  | 11,405 |  | 13,568
¹ The total number of 11,305 respondents across all the survey instruments is a mutually exclusive count that does not include the 100 reinterview respondents, who were previously counted among the main and young adult survey respondents.

Comments submitted in response to this notice will be summarized and/or included in the request for Office of Management and Budget approval of the information collection request; they also will become a matter of public record.

Signed at Washington, DC, on December 19, 2019.
Mark Staniorski,
Chief, Division of Management Systems.

[FR Doc. 2019-27950 Filed 12-26-19; 8:45 am]

BILLING CODE 4510-24-P